DEPARTMENT OF HOMELAND SECURITY

Coast Guard

33 CFR Part 110

[CGD08-05-016]

RIN 1625-AA01

Anchorage Regulations; Mississippi River Below Baton Rouge, LA, Including South and Southwest Passes

AGENCY: Coast Guard, DHS.

ACTION: Final rule.

SUMMARY: The Coast Guard has amended anchorage regulations for the Mississippi River below Baton Rouge, LA, including South and Southwest Passes, in order to improve safety at the Lower Kenner Bend Anchorage. This rule is needed to protect aircraft passengers and crew, mariners and the public from the potential safety hazards associated with the ascent and descent of aircraft over vessels anchored in the vicinity of the Louis Armstrong New Orleans International Airport, New Orleans, LA.

DATES: This rule is effective November 29, 2006.

ADDRESSES: Documents indicated in this preamble as being available in the docket, are part of docket [CGD08-05-016] and are available for inspection or copying at U.S. Coast Guard D8, 500 Poydras Street, New Orleans, Louisiana 70130-3396 between 8 a.m. and 4 p.m., Monday through Friday, except Federal holidays.

FOR FURTHER INFORMATION CONTACT: Douglas Blakemore, Waterways Management Branch, Eighth Coast Guard District, 500 Poydras Street, New Orleans, LA 70130-3396. Telephone (504) 671-2109; facsimile (504) 671-2137. Please cite CGD08-05-016.

SUPPLEMENTARY INFORMATION:

Regulatory Information

On April 27, 2005, we published a notice of proposed rulemaking (NPRM) entitled “Anchorage Regulations; Mississippi River Below Baton Rouge, LA, Including South and Southwest Passes” in the Federal Register (70 FR 21698). We received 4 letters commenting on this rule. A public meeting was held at the Hale Boggs Federal Building, 500 Poydras Street, New Orleans, LA on January 4, 2006 (70 FR 76320, December 23, 2005). The three comments from this public meeting are included in this rulemaking.

Background and Purpose

Runway 1-19 at the Louis Armstrong New Orleans International Airport is positioned in a north-south line running parallel to the Airport Access Road. Aircraft approaching the runway from the south or departing the runway from the north pass over the Lower Kenner Bend Anchorage. Officials from Louis Armstrong New Orleans International Airport have stated that due to the close proximity of Runway 1-19 to Kenner Bend, aircraft occasionally descend and ascend directly over vessels anchored in the Lower Kenner Bend Anchorage, creating a potentially dangerous situation that is of particular concern during periods of reduced visibility. Aircraft approaching the runway from the south follow a descending glide slope path with a minimum height of 311 feet above mean sea level over the Kenner Bend Anchorage. Certain vessels with cargo handling equipment such as cranes and booms are capable of extending this equipment to a height upwards of 300 feet above the waterline. This amendment to the anchorage regulations for the Mississippi River below Baton Rouge, LA, including South and Southwest Passes prohibits vessels from using ship's hold cargo cranes. Vessels in this anchorage must keep their cargo gear in their cradles as rigged for sea transits. This restriction does not apply to the use of deck-mounted store cranes, deck booms, or stiff legs, nor is it intended to restrict ships or ocean-going barges from moving manifold hoses.

Discussion of Comments and Changes

Four commenters stated that the Lower Kenner Bend Anchorage was important to the maritime industry and were concerned that the Coast Guard would completely remove Lower Kenner Bend as an anchorage. We agree with this assessment and have no intentions to remove this anchorage.

Three commenters objected that this rule does not address vessel size. Small vessels would not be able to use their cargo cranes even though the vessels maximum air draft with a completely extended cargo crane would be significantly lower than the minimum height of 311 feet above mean sea level needed for an aircrafts descending glide slope path over Kenner Bend Anchorage. We recognize this possibility; however, we feel that to maintain the consistent safety of descending airplanes over runway 1-19, we need to restrict the use of cargo cranes for all vessels.

Three commenters objected that this rule does not allow a vessel to take on ships stores, spare parts, supplies and fuel. We modified the rule to specifically address this issue. Vessels at anchor in the Lower Kenner Bend Anchorage are allowed to use deck-mounted cranes, deck booms and stiff legs to take on stores, spare parts and to move manifold hoses. However, cargo hold booms may not be used. In implementing changes from the proposed rule based on comments, we added a new paragraph to 33 CFR 110.195 instead of revising paragraph (c)(6).

Regulatory Evaluation

This rule is not a significant regulatory action under section 3(f) of Executive Order 12866, Regulatory Planning and Review, and does not require an assessment of potential costs and benefits under section 6(a)(3) of that Order. The Office of Management and Budget has not reviewed it under that Order. It is not significant under the regulatory policies and procedures of the Department of Homeland Security (DHS). We expect the economic impact of this rule to be so minimal that a full Regulatory Evaluation under the regulatory policies and procedures of DHS is unnecessary.

Small Entities

Under the Regulatory Flexibility Act (5 U.S.C. 601-612), we have considered whether this rule has a significant economic impact on a substantial number of small entities. The term small entities comprises small businesses, not-for-profit organizations that are independently owned and operated and are not dominant in their fields, and governmental jurisdictions with populations of less than 50,000.

The Coast Guard certifies under 5 U.S.C. 605(b) that this rule does not have a significant economic impact on a substantial number of small entities. This rule affects the following entities, some of which may be small entities: The owners or operators of vessels intending to anchor in the Lower Kenner Bend Anchorage. This rule does not have a significant economic impact on a substantial number of small entities for the following reasons: (1) This rule does not prohibit vessels from anchoring in the Lower Kenner Bend Anchorage; and (2) Cargo transfer operations are not typically conducted at the Lower Kenner Bend Anchorage.

If you think that your business, organization, or governmental jurisdiction qualifies as a small entity and that this rule has a significant economic impact on it, please submit a comment (see ADDRESSES) explaining why you think it qualifies and how and to what degree this rule economically affects it.

Assistance for Small Entities

Under section 213(a) of the Small Business Regulatory Enforcement Fairness Act of 1996 (Pub. L. 104-121), we want to assist small entities in understanding this rule so that they can better evaluate its effects on them and participate in the rulemaking. If the rule affects your small business, organization, or governmental jurisdiction and you have questions concerning its provisions or options for compliance, please contact Doug Blakemore at (504) 671-2109.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule does not result in such expenditure, we do discuss the effects of this rule elsewhere in this preamble.

Taking of Private Property

This rule does not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a significant energy action under that Order because it is not a significant regulatory action under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(f), of the Instruction, from further environmental documentation because this rule is not expected to result in any significant adverse environmental impact as described in the National Environmental Policy Act of 1969 (NEPA). A draft Environmental Analysis Check List and a draft Categorical Exclusion Determination are available in the docket where indicated under ADDRESSES. Comments on this section will be considered before we make the final decision on whether the rule should be categorically excluded from further environmental review.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471, 1221 through 1236, 2030, 2035 and 2071; 33 CFR 1.05-1(g); Department of Homeland Security Delegation No. 0170.1.

2. In § 110.195, redesignate paragraph (c)(7) as (c)(8) and add a new paragraph (c)(7) to read as follows:

§ 110.195 Mississippi River below Baton Rouge, LA, including South and Southwest Passes.

* * * * *

(c) * * *

(7) Vessels anchored in the Lower Kenner Bend Anchorage are prohibited from using or exercising the ship's hold cargo cranes. Vessels in this anchorage must keep the ship's hold cargo gear in the down and hawsed position, as rigged for sea transits. Deck-mounted cranes, deck booms and stiff legs may be used to take on ships stores and spare parts and may be used to move manifold hoses.

* * * * *

Dated: October 11, 2006.
J.R. Whitehead,
Rear Admiral, U.S. Coast Guard, Commander, Eighth Coast Guard District.

[FR Doc. E6-18086 Filed 10-27-06; 8:45 am]

BILLING CODE 4910-15-P